DEPARTMENT OF THE TREASURY

Agency Information Collection Activities; Submission for OMB Review; Comment Request; Multiple Fiscal Services Information Collection Requests

AGENCY: Departmental Offices, U.S. Department of the Treasury.

ACTION: Notice.

SUMMARY: The Department of the Treasury will submit the following information collection requests to the Office of Management and Budget (OMB) for review and clearance in accordance with the Paperwork Reduction Act of 1995, on or after the date of publication of this notice. The public is invited to submit comments on these requests.

DATES: Comments should be received on or before November 27, 2020 to be assured of consideration.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of the submissions may be obtained from Molly Stasko by emailing PRA@treasury.gov, calling (202) 622-8922, or viewing the entire information collection request at www.reginfo.gov.

SUPPLEMENTARY INFORMATION:

Fiscal Services (FS)

1. Title: Legacy Treasury Direct Forms.

OMB Control Number: 1530-0042.

Type of Review: Extension without change of a currently approved collection.

Description: The information is requested to issue and maintain Treasury Bills, Notes, and Bonds.

Form: FS Form 5178, FS Form 5179. FS Form 5188, FS Form 5191, FS Form 5235, FS Form 5236.

Affected Public: Individuals or Households.

Estimated Number of Respondents: 5,100.

Frequency of Response: On Occasion.

Estimated Total Number of Annual Responses: 5,100.

Estimated Time per Response: 13 minutes.

Estimated Total Annual Burden Hours: 1,105 hours.

2. Title: Resolution For Transactions Involving Treasury Securities.

OMB Control Number: 1530-0049.

Type of Review: Extension without change of a currently approved collection.

Description: The information is collected to establish an official's authority (by name and title) when conducting transactions involving Treasury Securities on behalf of an organization.

Form: FS Form 1010.

Affected Public: Businesses or other for-profit institutions.

Estimated Number of Respondents: 2,580.

Frequency of Response: On occasion.

Estimated Total Number of Annual Responses: 2,580.

Estimated Time per Response: 10 minutes.

Estimated Total Annual Burden Hours: 430 hours.

3. Title: Direct Deposit Sign-Up Form.

OMB Control Number: 1530-0050.

Type of Review: Extension without change of a currently approved collection.

Description: The information is collected to process requests for direct deposit of a Series HH or Series H bond interest payments or saving bond redemption payment to a financial institution.

Form: FS Form 5396.

Affected Public: Individuals or Households.

Estimated Number of Respondents: 24,000.

Frequency of Response: On occasion.

Estimated Total Number of Annual Responses: 24,000.

Estimated Time per Response: 10 minutes.

Estimated Total Annual Burden Hours: 4,000 hours.

(Authority: 44 U.S.C. 3501 et seq.)

Dated: October 22, 2020.
Molly Stasko,
Treasury PRA Clearance Officer.

[FR Doc. 2020-23791 Filed 10-27-20; 8:45 am]

BILLING CODE 4810-AS-P